DEPARTMENT OF LABOR

Employment and Training Administration

[TA-W-36,804]

Key Manufacturing Company, Inc. Jasper, AL; Notice of Negative Determination on Remand

The United States Court of International Trade (USCIT) granted the Secretary of Labor's motion for a voluntary remand for further investigation in Former Employees of Key Manufacturing Company, Inc. v. Alexis Herman, United States Secretary of Labor, No. 00-02-00084.

The Department's initial denial of Trade Adjustment Assistance (TAA) for the workers producing wooden furniture components at Key Manufacturing Company, Inc., was based on the finding that criterion (3) of the group eligibility requirements of Section 222 of the Trade Act of 1974, as amended, was not met. The decision was signed on September 30, 1999, and published in the Federal Register on November 4, 1999 (64 FR 60230).

The petitioners request for reconsideration of the Department's negative determination for TA-W-36,804, resulted in a Dismissal on Application for Reconsideration, since the application contained no new information which would bear importantly of the Department's determination. The dismissal was issued on January 5, 2000 and published in the Federal Register on March 31, 2000 (65 FR 17318).

On remand, the Department contacted the customer(s) of Key Manufacturing Company, Inc., Jasper, Alabama identified by the petitioner to be importing turned furniture parts. The petitioner claims that the customers increased their imports of turned furniture parts.

On remand, the survey indicated that none of the respondents increased their imports of turned furniture parts during the relevant period.

Two of the survey respondents reported that they purchased turned furniture parts from other domestic vendors immediately after the closure of the subject plant during late April 1999. They also reported that they began to import during the January/February 2000 period, well beyond the relevant period.

The third customer, based on data supplied by the petitioner, did not import turnings. The customer purchased all their turnings from the subject firm, changed their product line, which eliminated the need for turnings. That customer attributed their declines in purchases from the subject firm to increased imports of furniture. The import of furniture is not relevant to the products “like or directly competitive” with turned furniture parts produced by the subject firm.

Conclusion

After reconsideration on remand, I affirm the original notice of negative determination of eligibility to apply for adjustment assistance for workers and former workers of Key Manufacturing Co. Inc., Jasper, Alabama.

Signed at Washington, DC this 24th day of April 2002.
Edward A. Tomchick,
Director, Division of Trade Adjustment Assistance.

[FR Doc. 02-12401 Filed 5-16-02; 8:45 am]

BILLING CODE 4510-30-M